DEPARTMENT OF THE INTERIOR

Bureau of Indian Affairs

List of Additional Lands Affected by White Earth Reservation Land Settlement Act of 1985

AGENCY: Bureau of Indian Affairs, Interior.

ACTION: Notice.

SUMMARY: This notice publishes a list of additional allotments or interests on the White Earth Chippewa Reservation in Minnesota. The Department of the Interior, Bureau of Indian Affairs, have determined that certain additional allotments or interests fall within the scope of sections 4(a), 4(b), or 5(c) of the White Earth Reservation Land Settlement Act of 1985. Under section 7(e) of the Act, as amended, any determination made by the Secretary to include an allotment or interest is required to be published in the Federal Register.

FOR FURTHER INFORMATION CONTACT: Gene Virden, Superintendent, Minnesota Agency, Bureau of Indian Affairs, 522 Minnesota Avenue, NW., Bemidji, Minnesota 56601, Telephone (218) 751-2011.

SUPPLEMENTARY INFORMATION: The White Earth Reservation Land Settlement Act of 1985, Public Law 99-264 (100 Stat. 61), as amended by Public Law 100-153 (101 Stat. 886), Public Law 100-212 (101 Stat. 1433), and Public Law 101-301 (104 Stat. 210), provides for alternative methods of resolving disputes relative to the title to certain allotments for which trust patents were issued to White Earth Chippewa Indians. Sections 4(a) and 4(b) of the Act define circumstances by which the title to an allotment may have been taken or transferred through a questionable means during the trust period. The Act authorizes the Secretary of the Interior to:

(1) Identify the allotments or interests which were taken or transferred under identified circumstances;

(2) Determine the individuals entitled to compensation under the Act; and

(3) Ascertain the amount of compensation to which each such individual is entitled.

In addition, section 5(c) of the Act provides that the White Earth Band of Chippewa Indians shall be compensated for allotments which were granted to individuals who had died prior to the selection dates of their respective allotments. Under section 8(a) of the Act, the compensation for the taking or transfer of an allotment or interest is to be based on the fair market value of the allotment or interest therein as of the date of such taking or transfer, less any consideration actually received at the time. The compensation to be paid under the Act shall include interest compounded annually at 5 percent from the date of the questionable taking or transfer, until March 24, 1986, and at the general rate of interest earned by Department of the Interior funds thereafter. The Secretary is authorized to issue written notices of compensation determination to the allottees or heirs entitled to it. Such notice will describe the basis for the Secretary's determination, the process whereby such compensation was determined, the method of payment, and the applicable time limits for judicial review of the determination. Any individual who has already elected to file suit in the Federal District Court for the District of Minnesota to seek the recovery of title to an allotment or interest therein, or damages, is barred under section 6(c) from receiving any compensation under the Act.

The Secretary was authorized, under section 7(a) of the Act, to publish a first list of allotments or interest that fall within the provisions of sections 4(a), 4(b), or 5(c) of the Act. The first list of allotments and interests affected by the Act was published in the Federal Register on September 19, 1986 (51 FR 33348). The Secretary was also authorized, under section 7(c) of the Act, to publish a second list of allotments and interests affected by the Act, including additions to those appearing on the first list. The amendment contained in Public Law 100-212 authorized the Secretary to include and publish, as part of the second list, corrections to the first list. The list published in the Federal Register on March 10, 1989 (54 FR 10216), constitutes the second list of allotments and interests which was determined by the Department of the Interior to fall within the provisions of sections 4(a), 4(b), or 5(c) of the Act.

The Secretary is also authorized, at any time, under section 7(e)(1) of the Act, as amended, to add allotments or interests to the second list if the Secretary determined that the additional allotments or interests fall within the provisions of sections 4(a), 4(b), or 5(c). The first list of such additions was published in the Federal Register on March 27, 1991 (56 FR 12818), and a second list of such additions was subsequently published on April 11, 1994 (59 FR 17174). The Secretary has determined that certain additional allotments or interests fall within the provisions of sections 4(a), 4(b), or 5(c). The list included in this notice contains these additions.

The list describes additional allotments and interests, whether the takings or transfers apply to the allottees or the heirs of inherited interests. The lists characterized in the September 19, 1986, and March 10, 1989, publications as those of Partial Interests are no longer being published. All allotments and interests determined by the Secretary to be affected by sections 4(a), 4(b), or 5(c) of the Act are contained in what had been characterized as the Master List in previous publications and in this addition. Some of the allotments contained on the list include herein may represent partial interests only. The failure to include a Partial Interest List does not mean that there are no partial interests.

The inclusion of an allotment or interest on this list may be judicially reviewed under the provisions of the Administrative Procedure Act, 5 U.S.C. 701, et seq. Any such action must be filed in Federal District Court for the District of Minnesota and shall be barred unless it is filed within 90 calendar days of this publication.

This notice is published in the exercise of authority delegated by the Secretary of the Interior to the Assistant Secretary—Indian Affairs by 209 DM 8.

Dated: December 23, 2004.
David W. Anderson,
Assistant Secretary—Indian Affairs.

Instruction Sheet

Each questionable taking or transfer has been assigned a 10, 11 or 12 character Issue Number. In every instance, the first six characters, F53408, are identical and denote the Midwest Regional Office, Minnesota Agency and White Earth Indian Reservation. The last four, five and six characters identify the specific taking or transfer. The list contains information regarding allotments and inherited interests, in addition to those listed in previous publications, affected by the Act, including the following subheadings:

Issue Number: The 10, 11 or 12 character number, explained above, which identifies the Regional Office, Agency, Reservation and specific taking or transfer affected by the Act. Where there are multiple tracts of land, there has occasionally been the need to add one or more letters to the Issue Number in order to distinguish among such tracts. Also, where a tract of land has been the subject of multiple takings or transfers by interest holders, letters have been added to the Issue Number to distinguish between such takings and transfers.

Allot #: The number assigned, at the time of the allotment section, to the allotment comprising the tract of land which was involved in the taking or transfer. Many White Earth allottees, after receiving an original allotment, were granted an additional allotment, with different numbers assigned to each. To distinguish between the two allotments, the numbers are preceded by the letter O (Original Allotment) or A (Additional Allotment).

CO: The county in which the tract involved in the taking or transfer is located. These are identified as Becker (B), Clearwater (C) or Mahnomen (M) County.

Legal Sub, SEC, TWP, and RNG: The legal description of the tract which is involved with the taking or transfer by legal Subdivision, Section (SEC), Township (TWP), and Range (RNG) numbers. Where a metes and bounds description is required for the legal subdivision, it is described as MB (Metes and Bounds). Further information concerning such tracts can be obtained from the WELSA Project office in Bemidji, Minnesota.

English Name: All known English names of the allottee, including given name, middle initial, middle name, maiden name, and other English names which have been identified for the allottee.

Ojibway Name: The name of the allottee in Ojibway, the native language of the White Earth Band of the White Earth Band of Chippewa Indians. The names are shown with phonetic spellings.

Tracts which fall within the provisions of section 5(c) of the Act, where the claimant is the White Earth Band, appear on the list with the White Earth Band listed under the sub-heading of English Name.

If you wish further information about allotments or interests which are contained in this list, call or write the WELSA Project office in care of the Bureau of Indian affairs. The address and telephone number are indicated in the FOR FURTHER INFORMATION CONTACT section of this document. Be sure to include the complete Issue Number in any correspondence with the Bureau of Indian Affairs.

List of Additional Lands Affected by the White Earth Reservation Land Settlement Act of 1985
Issue number | Allot No. | CO | Legal sub | SEC | TWP | RNG | English name | Ojibwe name
F53-408-0066B | A-2999 | M | NESE | 14 | 146 | 40 | Nancy Pine | Ahgwahdaushee.
F53-408-0133 | O-0596 | B | Lot 4 & SESW | 7 | 142 | 39 | Dan Brown | Kah we tah waush.
F53-408-0135B | O-0613 | B | LOT 1 & SENE | 23 | 142 | 41 |  | Ke way gah bow e quay.
F53-408-0492 | O-0577 | B | LOTS 1 & 2 | 7 | 142 | 40 | Mrs. Joseph Charette | Ayn dus.
F53-408-0493B | A-0507 | B | E2SW | 16 | 141 | 39 | Sophia Bellanger Benais
F53-408-0713D | A-3051 | M | NENW | 25 | 145 | 42 |  | Nay tah o say quay.
|  |  | N2NWNW | 25 | 145 | 42
|  |  | S2NWNW | 24 | 145 | 42
F53-408-0812 | O-2614 | B | E2SW | 21 | 142 | 37 |  | Pugenaygeshhigoquay.
F53-408-0968 | O-4682 | M | NWSW | 13 | 145 | 40 | John/Charles LaRose | Omin way way ge shig.
|  |  | NESE | 14 | 146 | 40
F53-408-0968D | A-2298 | M | NWSW | 13 | 145 | 40 | John/Charles LaRose | Omin way way ge snig.
|  |  | NESE | 14 | 145 | 40
F53-408-0995 | O-3455 | M | NESE & SENW | 16 | 143 | 39 | Viola Snider Saign
F53-408-0995A | A-1921 | M | NWSE & SWNE | 16 | 143 | 39 | Viola Snider Saign
F53-408-1007 | A-3055 | M | Lots 2, 7 & 8 | 1 | 146 | 40 | Dorothy Day Dodge | Kah gay ge shig o quay.
F53-408-1223A | O-2945 | M | Lots 3 & 9 | 30 | 143 | 42 | Jack Papio | In de baince.
F53-408-1223B | O-2945 | M | Lots 3 & 9 | 30 | 143 | 42 | Jack Papio | In de baince.
F53-408-1809A | A-1224 | M | E2SW | 33 | 145 | 41 | Joseph Jourdain
F53-408-1823 | O-1836 | B | Lots 3 & 4 | 18 | 142 | 39 |  | Ayenub.
F53-408-1824 | O-3548 | M | E2SW | 27 | 145 | 40 | James Staples | Nay wah je ke shig.
F53-408-1824A | O-3548 | M | E2SW | 27 | 145 | 40 | James Staples | Nay wah je ke shig.
F53-408-1869A | O-2110 | B | E2NW | 25 | 141 | 37 |  | Ahbetahwahcumigoke.
F53-408-2006H | A-1663 | M | W2NW | 26 | 146 | 39 |  | Obim way way ge shig o quay.
F53-408-2176 | O-4312 | M | S2NE | 15 | 146 | 42 |  | Nah ah bun way.
F53-408-2178 | O-3162 | M | E2SE | 30 | 144 | 42 | Joseph M. Turpin
F53-408-2180 | O-3963 | M | N2SW | 20 | 146 | 40 | Nellie Strong | Ke che wauzh.
F53-408-2180A | O-3963 | M | N2SW | 20 | 146 | 40 | Nellie Strong | Ke che wauzh.
F53-408-2181 | O-4784 | M | E2SE | 35 | 143 | 40 |  | Oge mah we gah bow.
F53-408-2182 | O-0744 | B | S2NW | 17 | 141 | 40 | Henry Mason
F53-408-2183 | A-0656 | B | W2NE | 35 | 142 | 39 | Philomene Santwire
F53-408-2184 | O-3868 | B | E2SE | 26 | 142 | 39 | Frank Badboy | Odinegon.
F53-408-2184A | O-3868 | B | E2SE | 26 | 142 | 39 | Frank Badboy | Odinegon.
|  |  | SWSE Less 2
F53-08-2185 | A-2102 | C | acres | 8 | 145 | 38 | Scott LaPrairie | Dewayayay.
|  |  | SWNW | 9 | 145 | 38
F53-408-2187 | O-2688 | B | NENE | 15 | 142 | 38 |  | Aydowahcumigoquay.
|  |  | Lot 4 | 14 | 142 | 38
F53-408-2188 | O-0741 | B | SWNW | 16 | 141 | 40 | Catherine Mason
|  |  | Lot 1 | 16 | 141 | 40
F53-408-2189 | A-2982 | M | NWNE & SENW | 22 | 144 | 39 |  | Mahgaid.
F53-408-2189A | A-2982 | M | NWNE & SENW | 22 | 144 | 39 |  | Mahgaid.
F53-408-2189B | A-2982 | M | NWNE & SENW | 22 | 144 | 39 |  | Mahgaid.

[FR Doc. 05-748 Filed 1-12-05; 8:45 am]

BILLING CODE 4310-W7-P